DEPARTMENT OF HEALTH AND HUMAN SERVICES

Administration for Children and Families

Submission for OMB Review; Legal Services for Unaccompanied Children (0970-0565)

AGENCY: Office of Refugee Resettlement, Administration for Children and Families, Department of Health and Human Services.

ACTION: Request for public comment.

SUMMARY: The Office of Refugee Resettlement (ORR), Administration for Children and Families (ACF), U.S. Department of Health and Human Services (HHS), is proposing to continue to collect information that will allow the Unaccompanied Children (UC) Program to provide legal services to UC. These information collections were originally approved under emergency approval for 6 months. This request is to continue data collection. This is a time sensitive request because all of these forms are already in use and must continue to be in use in order for the UC Program to meet its statutory obligations.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. This is a time sensitive request because many of these forms are already in use and must continue to be in use in order for the UC Program to meet its statutory obligations.

SUPPLEMENTARY INFORMATION: Description: ORR received several comments on this information collection in response to the Federal Register Notice published on February 18, 2021, (86 FR 10082) and has provided responses to those comments in its final submission to OMB. UC Path is critical to program operations, and it is important that rollout of the new system not be delayed. Therefore, the below description details what will be included in the initial launch of the UC Path case management system and revisions based on public comments will be made after initial launch. ORR plans to conduct a deliberative review of commenters' suggestions and concerns and submit a request for revisions to this information collection request in January 2022. The upcoming information collection request will also include revisions based on feedback from UC Path system users (i.e., ORR grantee, contractor, and federal staff). The components of this information request include:

1. Legal Service Provider List for UC in ORR Care (Form LRG-5/5s): This instrument is provided to UC by their case manager. The instrument contains a list of legal services providers available to UC. UC initial and sign the instrument upon admission and release of ORR custody to acknowledge receipt of documents contained in ORR's Legal Resource Guide.

2. Request for a Flores Bond Hearing (Form LRG-7/7s): This instrument is provided to UC placed by their case manager. The instrument is always provided to UC placed in a restrictive setting (secure, staff secure, and residential treatment center facilities) and to UC placed in other types of facilities upon request. UC may use this instrument to request or withdraw a request for a Flores bond hearing.

3. Motion to Request a Bond Hearing—Secure or Staff Secure Custody (Form LRG-8A): This instrument is completed by case managers upon receipt of a Request for a Flores Bond Hearing for a UC in secure or staff secure custody and provided to ORR. ORR files the motion with the local immigration court.

4. Motion to Request a Bond Hearing—Non-Secure Custody (Form LRG-8B): This instrument is completed by case managers upon receipt of a Request for a Flores Bond Hearing for a UC placed in a non-secure program (e.g., shelter, foster care) and provided to ORR. ORR files the motion with the local immigration court.

5. Request for Specific Consent to Juvenile Court Jurisdiction (Form L-1): This instrument is used by legal service providers and attorneys of record to request specific consent from ORR in cases where they are seeking Special Immigrant Juvenile legal relief for their UC client and are also seeking to invoke the jurisdiction of a state court to determine or alter the UC's custody status or placement.

6. Specific Consent Request Case Summary (Form L-2): This instrument is completed by ORR Federal Field Specialists (FFS) when ORR receives a request for specific consent. FFS provide case information that will allow the ORR Director to make an informed decision on whether to grant specific consent.

7. Notice of Attorney Representation (Form L-3): This instrument is completed by attorneys of record for UC to notify ORR of the purpose of legal representation and the representation timeframe. ORR uses this instrument to ensure that case updates are provided to attorneys of record. This instrument may also be used by attorneys of record when requesting a copy of their client's case file.

8. UC Legal Information (Form L-4): This instrument is used by case managers to document, as applicable, referrals to the Office on Trafficking in Persons, meetings between the UC and their legal service provider or attorney of record, the provision of ORR's Legal Resource Guide to the UC, information about the UC's legal service provider or attorney of record, immigration and administrative hearings, and provision of the Notice of Placement in a Restrictive Setting to the UC. The instrument also includes an area to upload legal documents.

9. Legal Service Provider Record (Form L-6): This instrument is used by case managers to create a record containing certain information and documents that ORR makes accessible to ORR-funded legal service providers without requiring a formal records request.

10. Motion for Change of Venue (Form L-7): This instrument is used by case managers to file a motion for change of venue when a UC is transferred or discharged to a new immigration court jurisdiction.

11. Post Legal Status Plan (Form L-8): This instrument is used by case managers to create and obtain FFS Supervisor approval for a plan for UC expected to obtain legal status, at which time the UC must be released from ORR custody.

Proposed revisions:

• Replace the term “unaccompanied alien child (UAC)” with “unaccompanied child (UC)” throughout the instruments in this collection. Note that the screenshots of UC Path instruments attached to this memo do not reflect this change because it has not yet been developed in the system. However, the revision in terminology will be made before the system is launched.

• Remove the term “alien” from the title of this information collection and revise it to read “Legal Services for Unaccompanied Children.”

Respondents: ORR grantee and contractor staff, UC, parents/legal guardians of UC, attorneys of record, and legal service providers.

Annual Burden Estimates
Instrument | Annual total number of respondents | Annual total number of responses per respondent | Average burden minutes per response | Annual total burden hours
Legal Service Provider List for UC in ORR Care (Form LRG-5/5s) | 216 | 556.0 | 15 | 30,024
Request for a Flores Bond Hearing (Form LRG-7/7s) | 216 | 0.2 | 10 | 7
Motion to Request a Bond Hearing—Secure or Staff Secure Custody (Form LRG-8A) | 8 | 3.0 | 10 | 4
Motion to Request a Bond Hearing—Non-Secure Custody (Form LRG-8B) | 208 | 0.1 | 10 | 3
Request for Specific Consent to Juvenile Court Jurisdiction (Form L-1) | 40 | 1.0 | 15 | 10
Specific Consent Request Case Summary (Form L-2) | 216 | 0.2 | 20 | 14
Notice of Attorney Representation (Form L-3) | 13,000 | 1.0 | 15 | 3,250
UC Legal Information (Form L-4) | 216 | 241.0 | 60 | 52,056
Legal Service Provider Record (Form L-6) | 216 | 241.0 | 5 | 4,338
Change of Venue (Form L-7) | 216 | 208.0 | 10 | 7,488
Post Legal Status Plan (Form L-8) | 216 | 24.0 | 15 | 1,296
Estimated Annual Burden Hours Total |  |  |  | 98,490

Authority: 6 U.S.C. 279; 8 U.S.C. 1232; Flores v. Reno Settlement Agreement, No. CV85-4544-RJK (C.D. Cal. 1996).

Mary B. Jones,
ACF/OPRE Certifying Officer.

[FR Doc. 2021-18658 Filed 8-30-21; 8:45 am]

BILLING CODE 4184-45-P